ENVIRONMENTAL PROTECTION AGENCY

[EPA-HQ-OPP-2020-0060; FRL-10021-91]

Cancellation Order for Certain Pesticide Registration and Amendments To Terminate Uses

AGENCY: Environmental Protection Agency (EPA).

ACTION: Notice.

SUMMARY: This notice announces EPA's order for the cancellations and amendments to terminate uses, voluntarily requested by the registrants and accepted by the Agency, of the products listed in Table 1 and Table 2 of Unit II, pursuant to the Federal Insecticide, Fungicide, and Rodenticide Act (FIFRA). This cancellation order follows a February 10, 2021 Federal Register Notice of Receipt of Requests from the registrants listed in Table 3 of Unit II to voluntarily cancel and amend to terminate uses of these product registrations. In the February 10, 2021 notice, EPA indicated that it would issue an order implementing the cancellations and amendments to terminate uses, unless the Agency received substantive comments within the 30-day comment period that would merit its further review of these requests, or unless the registrants withdrew their requests. The Agency received three comments on the notice, but none merited its further review of the requests. Further, the registrants did not withdraw their requests. Accordingly, EPA hereby issues in this notice a cancellation order granting the requested cancellations and amendments to terminate uses. Any distribution, sale, or use of the products subject to this cancellation order is permitted only in accordance with the terms of this order, including any existing stocks provisions.

DATES: The cancellations and amendments are effective April 2, 2021.

FOR FURTHER INFORMATION CONTACT: Christopher Green, Registration Division (7502P), Office of Pesticide Programs, Environmental Protection Agency, 1200 Pennsylvania Ave. NW, Washington, DC 20460-0001; telephone number: (703) 347-0367; email address: green.christopher@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2020-0060, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the Agency taking?

This notice announces the cancellations and amendments to terminate uses, as requested by registrants, of products registered under FIFRA section 3 (7 U.S.C. 136a). These registrations are listed in sequence by registration number in Tables 1 and 2 of this unit.

Table 1—Product Cancellations
Registration No. | Company No. | Product name | Active ingredients
106-44 | 106 | Brulin CDQ | Alkyl* dimethyl benzyl ammonium chloride *(60%C14, 30%C16, 5%C18, 5%C12) & Alkyl* dimethyl ethylbenzyl ammonium chloride *(68%C12, 32%C14).
228-688 | 228 | NuFarm Chlormequat Pro Plant Growth Regulator (Active); NuFarm Chlormequat SPC Plant Growth (Alternate) | Chlormequat chloride.
241-260 | 241 | Amdro Granular Insecticide | Hydramethylnon.
241-261 | 241 | Amdro 20 Fireant Insecticide | Hydramethylnon.
241-371 | 241 | Sensible Termiticide Bait | Hydramethylnon.
279-3615 | 279 | F4189-1 | Thiamethoxam; Metalaxyl-M; Difenoconazole; Tebuconazole & Thiophanate-methyl.
352-832 | 352 | Dupont DPX-B2856 3.0 Herbicide | Glyphosate-isopropylammonium.
499-530 | 499 | TC-250 | Hydramethylnon.
1007-99 | 1007 | Nolvasan Solution | Chlorhexidine diacetate.
1007-100 | 1007 | Fort Dodge Nolvasan S (Active); Nolvasan S (Alternate) | Chlorhexidine diacetate.
1007-101 | 1007 | Chlorhexidine Diacetate | Chlorhexidine diacetate.
1043-87 | 1043 | Vesphene II Se | 4-tert-Amylphenol & o-Phenylphenol (NO INERT USE).
1043-91 | 1043 | LPH Master Product | 4-tert-Amylphenol & o-Phenylphenol (NO INERT USE).
1043-92 | 1043 | LPH SE | 4-tert-Amylphenol & o-Phenylphenol (NO INERT USE).
1258-997 | 1258 | Pace Pool Chlorinating Type E Cartridge | Trichloro-s-triazinetrione.
1258-1083 | 1258 | Constant Chlor Universal Refillable Cartridge for Floaters and Feeder | Trichloro-s-triazinetrione.
1258-1133 | 1258 | Pace Disposable Floating Cartridge | Trichloro-s-triazinetrione.
1258-1271 | 1258 | Pool Breeze Pool Care System 3” Chlorinating Tablets | Trichloro-s-triazinetrione.
1258-1282 | 1258 | Pool Breeze Pool Care System 1” Chlorinating Tablets | Trichloro-s-triazinetrione.
1381-213 | 1381 | Daze 50WP | Thidiazuron.
1448-428 | 1448 | GBCH | 2,4-Imidazolidinedione, 1-bromo-3-chloro-5,5-dimethyl-.
2693-46 | 2693 | Mil-P-15931B Formula 121/63 Antifouling Paint Vinyl Red | Cuprous oxide.
2693-56 | 2693 | Mil-P-16189B Formula 129/63 Antifouling Paint, Vinyl Black | Cuprous oxide.
6836-202 | 6836 | Barquat MM-45 | Alkyl* dimethyl benzyl ammonium chloride *(100% C14).
7364-43 | 7364 | Chlorination Tablets Float Canister | Trichloro-s-triazinetrione.
7364-44 | 7364 | Tabex Chlorination Tablets Feeder Canister | Trichloro-s-triazinetrione.
7364-49 | 7364 | Tabex Replacement Chlorinating Canister | Trichloro-s-triazinetrione.
9688-286 | 9688 | Chemsico Brush Killer Concentrate II | 2,4-D, 2-ethylhexyl ester; Dicamba & 2,4-DP-p, 2-ethylhexyl ester.
10807-177 | 10807 | Misty II Disinfectant & Deodorant | Ethanol; 4-tert-Amylphenol & o-Phenylphenol (NO INERT USE).
35935-62 | 35935 | ET-012 (Active); Chlormequat Chloride Technical (Alternate) | Chlormequat chloride.
35935-114 | 35935 | Imazethapyr Technical | Imazethapyr.
52287-15 | 52287 | Harrell's Granular Herbicide 75 | Trifluralin & Oxyfluorfen.
55146-42 | 55146 | Algae-RHAP CU-7 Liquid Copper Algaecide | Copper sulfate pentahydrate.
55146-72 | 55146 | Agri Tin Agricultural Fungicide | Fentin hydroxide.
62719-322 | 62719 | NAF-545 | Glyphosate-isopropylammonium.
62719-323 | 62719 | Glyphomax | Glyphosate-isopropylammonium.
62719-345 | 62719 | Erase Blue | Glyphosate-isopropylammonium.
62719-361 | 62719 | Glyphosate 18% Concentrate Grass and Weed Killer | Glyphosate-isopropylammonium.
62719-362 | 62719 | Glyphosate 0.96% RTU | Glyphosate-isopropylammonium.
62719-366 | 62719 | Glymix MT | 2,4-D, isopropylamine salt & Glyphosate-isopropylammonium.
62719-448 | 62719 | Rawhide 4F Herbicide | Glyphosate-isopropylammonium & Oxyfluorfen.
62719-481 | 62719 | Glyphosate 1.92% RTU | Glyphosate-isopropylammonium.
62719-495 | 62719 | Glyphosate 41% Concentrate | Glyphosate-isopropylammonium.
62719-496 | 62719 | GF-887 | Glyphosate-isopropylammonium.
62719-509 | 62719 | GF-772 | Glyphosate-isopropylammonium.
62719-517 | 62719 | GF-1279 | Glyphosate-isopropylammonium.
62719-614 | 62719 | Firststep Herbicide Tank Mix | Glycine, N-(phosphonomethyl)-, compd. with N-methylmethanamine (1:1) & Florasulam.
62719-673 | 62719 | GF-2726 SR | Glycine, N-(phosphonomethyl)-, compd. with N-methylmethanamine (1:1) & 2,4-D, Choline salt.
66570-2 | 66570 | Effersan | Sodium dichloro-s-triazinetrione.
67543-7 | 67543 | Super KL | Cuprous oxide.
70644-8 | 70644 | Bio-Blast Biological Termiticide | Metarhizium anisopliae Strain ESF1.
75801-1 | 75801 | Spot-Less Biofungicide | Pseudomonas aureofaciens strain Tx-1.
87290-3 | 87290 | Willowood Pronamide 50WSP | Propyzamide.
94483-1 | 94483 | Lment Mesotrione Technical | Mesotrione.
AZ-150001 | 8033 | Assail 70WP Insecticide | Acetamiprid.
AZ-170004 | 70506 | Assail 30 SG Insecticide | Acetamiprid.

Table 2—Product Registration Amendments to Terminate Uses
Registration No. | Company No. | Product name | Active ingredient | Uses to be terminated
1448-29 | 1448 | TCMTB | 2-(Thiocyanomethylthio)benzothiazole | Seed treatment.
1448-403 | 1448 | TCMTB 150 | 2-(Thiocyanomethylthio)benzothiazole | Seed treatment.
1448-405 | 1448 | TCMTB-DM | 2-(Thiocyanomethylthio)benzothiazole | Seed treatment.
40230-1 | 40230 | Galltrol-A | Agrobacterium radiobacter (strain K84) | Grapes.
64405-29 | 64405 | Copper 8-Quinolinolate | Copper, bis(8-quinolinolato-N1,O8)-, | In-can paint preservative.

Table 3 of this unit includes the names and addresses of record for all registrants of the products in Tables 1 and 2 of this unit, in sequence by EPA company number. This number corresponds to the first part of the EPA registration numbers of the products listed above.

Table 3—Registrants of Cancelled and Amended Products
EPA company No. | Company name and address
106 | Brulin & Company, Inc., P.O. Box 270, Indianapolis, IN 46206.
228 | NuFarm Americas, Inc., 4020 Aerial Center Pkwy., Ste. 101, Morrisville, NC 27560.
241 | BASF Corporation, 26 Davis Drive, P.O. Box 13528, Research Triangle Park, NC 27709-3528.
279 | FMC Corporation, 2929 Walnut Street, Philadelphia, PA 19104.
352 | E.I. Du Pont De Nemours and Company, 9330 Zionsville Road, Indianapolis, IN 46268.
499 | BASF Corporation, 26 Davis Drive, P.O. Box 13528, Research Triangle Park, NC 27709-3528.
1007 | Zoetis, Inc., 333 Portage Street, Kalamazoo, MI 49007-4931.
1043 | Steris Corporation, P.O. Box 147, St. Louis, MO 63166-0147.
1258 | Arch Chemicals, Inc., 1200 Bluegrass Lakes Parkway, Alpharetta, GA 30004.
1381 | Winfield Solutions, LLC, P.O. Box 64589, St. Paul, MN 55164-0589.
1448 | Buckman Laboratories, Inc., 1256 North Mclean Blvd, Memphis, TN 38108.
2693 | International Paint, LLC, 6001 Antoine Drive, Houston, TX 77091.
6836 | Lonza, LLC, 412 Mount Kemble Avenue, Suite 200S, Morristown, NJ 07960.
7364 | Innovative Water Care, LLC, d/b/a GLB Pool & Spa, 1400 Bluegrass Lakes Parkway, Alpharetta, GA 30004.
8033 | Nippon Soda Co., Ltd., Agent Name: Nisso America, Inc., 379 Thornall Street, 5th Floor, Edison, NJ 08837.
9688 | Chemsico, A Division of United Industries Corp., P.O. Box 142642, St. Louis, MO 63114-0642.
10807 | AMREP, Inc., Agent Name: Zep, Inc. c/o Compliance Services, 3330 Cumberland Blvd., Suite 700, Atlanta, GA 30339.
35935 | NuFarm Limited, Agent Name: NuFarm Americas, Inc., 4020 Aerial Center Pkwy., Ste 101, Morrisville, NC 27560.
40230 | AgBiochem, Inc., 3750 North 1020 East, Provo, UT 84604.
52287 | Harrell's, LLC, P.O. Box 807, Lakeland, FL 33802.
55146 | NuFarm Americas, Inc., AGT Division, 4020 Aerial Center Pkwy., Suite 101, Morrisville, NC 27560.
62719 | Dow AgroSciences, LLC, 9330 Zionsville Road, Indianapolis, IN 46268.
64405 | Nisus Corporation, Attn: Regulatory Affairs, 100 Nisus Drive, Rockford, TN 37853-3069.
66570 | Activon, Inc., Agent Name: Scientific & Regulatory Consultants, Inc., 201 W. Van Buren Street, Columbia City, IN 46725.
67543 | International Paint, LLC, 6001 Antoine Drive, Houston, TX 77091.
70506 | UPL NA, Inc., 630 Freedom Business Center, Suite 402, King of Prussia, PA 19406.
70644 | Lidochem, Inc., Agent Name: RegWest Company, LLC, 8209 West 20th Street, Suite B, Greeley, CO 80634-4699.
75801 | Turf Science Laboratories, Inc., International Pest & Vegetative Management, P.O. Box 462785, Escondido, CA 92046.
87290 | Willowood, LLC, c/o Generic Crop Science, LLC, 1887 Whitney Messa Drive, #9740, Henderson, NV 89014-2069.
94483 | LMENT, LLC, Agent Name: Wagner Regulatory Associates, Inc., 7217 Lancaster Pike, Suite A, P.O. Box 640, Hockessin, DE 19707-0640.

III. Summary of Public Comments Received and Agency Response to Comments

The Agency received one anonymous public comment and two other public comments on the notice. For these reasons, the Agency does not believe that the comments submitted during the comment period merit further review or a denial of the requests for voluntary cancellation and use termination.

IV. Cancellation Order

Pursuant to FIFRA section 6(f) (7 U.S.C. 136d(f)(1)), EPA hereby approves the requested cancellations and amendments to terminate uses of the registrations identified in Tables 1 and 2 of Unit II. Accordingly, the Agency hereby orders that the product registrations identified in Tables 1 and 2 of Unit II are canceled and amended to terminate the affected uses. The effective date of the cancellations that are subject of this notice is April 2, 2021. Any distribution, sale, or use of existing stocks of the products identified in Tables 1 and 2 of Unit II in a manner inconsistent with any of the provisions for disposition of existing stocks set forth in Unit VI will be a violation of FIFRA.

V. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of February 10, 2021 (86 FR 8902) (FRL-10016-15). The comment period closed on March 12, 2021.

VI. Provisions for Disposition of Existing Stocks

Existing stocks are those stocks of registered pesticide products which are currently in the United States and which were packaged, labeled, and released for shipment prior to the effective date of the action. The existing stocks provision for the products subject to this order is as follows.

For the voluntary cancellations listed in Table 1 of Unit II, the registrants may continue to sell and distribute existing stocks of products listed in Table 1 until March 31, 2022, which is 1 year after publication of this cancellation order in the Federal Register. Thereafter, the registrants are prohibited from selling or distributing products listed in Table 1 of Unit II, except for export in accordance with FIFRA section 17 (7 U.S.C. 136o) or for proper disposal.

Now that EPA has approved the product labels reflecting the requested amendments to terminate, listed in Table 2 of Unit II, registrants are permitted to sell or distribute products listed in Table 2 of Unit II under the previously approved labeling until September 30, 2022, a period of 18 months after publication of the cancellation order in this Federal Register, unless other restrictions have been imposed. Thereafter, registrants will be prohibited from selling or distributing the products whose labels include the terminated uses identified in Table 2 of Unit II, except for export consistent with FIFRA section 17 or for proper disposal.

Persons other than the registrant may sell, distribute, or use existing stocks of canceled products and products whose labels include the terminated uses until supplies are exhausted, provided that such sale, distribution, or use is consistent with the terms of the previously approved labeling on, or that accompanied, the canceled products and terminated uses.

Authority: 7 U.S.C. 136 et seq.

Dated: March 26, 2021.
Marietta Echeverria,
Acting Director, Registration Division, Office of Pesticide Programs.

[FR Doc. 2021-06851 Filed 4-1-21; 8:45 am]

BILLING CODE 6560-50-P